DEPARTMENT OF AGRICULTURE

Forest Service

Integrated Resource Contracts FS-2400-13 and FS-2400-13T

AGENCY: Forest Service, USDA.

ACTION: Notice of interim contracts, request for comments.

SUMMARY: The Forest Service is implementing Integrated Resource Contracts, FS-2400-13, for use when timber products are measured after harvest, and FS-2400-13T, for use when timber products are measured before harvest. The contracts are for use in stewardship end result contracting pursuant to section 323 of Public Law 108-7, the Consolidated Appropriations Resolution (16 U.S.C. 2104 note), when the value of timber exceeds the cost of service work. Except for additions addressing new stewardship contracting authorities, both contracts parallel the recently revised Timber Sale Contracts FS-2400-6 and FS-2400-6T which became effective upon notice in the Federal Register on May 6, 2004 (69 FR 25367). The Integrated Resource Contracts are available electronically and in paper copy, as provided in the ADDRESSES section of this notice. Comments received will be considered when the Forest Service prepares the final Integrated Resource Contracts.

DATES: Comments must be received in writing on or before November 4, 2004.

ADDRESSES: Send written comments by mail to USDA Forest Service, Director Forest Management, 1400 Independence Avenue, SW., Mail Stop 1103, Washington, DC 20250-0003; via e-mail to: integratedresourcecontracts@fs.fed.us; or via facsimile to (202) 205-1045. Comments may also be submitted via the World Wide Web Internet Web site at: http://www.regulations.gov. All comments including names and addresses when provided are placed in the record and are available for public inspection and copying. The Integrated Resource Contracts are available for public review on the Forest Service World Wide Web/Internet site at: http://www.fs.fed.us/forestmanagement/projects/stewardship/contracts. Alternatively, these can be viewed in the office of the Director of Forest Management, Third Floor, Northwest Wing, Yates Building, 201 14th Street, SW., Washington, DC. Visitors are encouraged to call ahead to (202) 205-0893 to facilitate entry into the building.

FOR FURTHER INFORMATION CONTACT: Richard Fitzgerald, Forest Management Staff, (202) 205-1753, or Lathrop Smith, Forest Management Staff, (202) 205-0858.

SUPPLEMENTARY INFORMATION:

Background

Section 323 of Public Law 108-7, the Consolidated Appropriations Resolution (16 U.S.C. 2104 note), established new authorities for stewardship contracting not addressed in existing Forest Service timber sale contract forms. In general, the new authorities allow the Forest Service to enter into stewardship contracts with public or private entities or persons to perform services to achieve land management goals for National Forest System lands that meet local and rural community needs. By combining components of both service and timber sale contracts into a single integrated resource contract the value of timber or other forest products removed can be used as an offset against the cost of services received. Integrated Resource Contracts FS-2400-13 and FS-2400-13T are for use with stewardship end result contracting when the value of timber exceeds the cost of service work. Except where they deviate to address the new authorities and the limitation of compensation in the event of a sovereign act that would affect a stewardship contract, the FS-2400-13 and FS-2400-13T contracts parallel the recently revised Timber Sale Contracts FS-2400-6 and FS-2400-6T which became effective upon notice in the Federal Register on May 6, 2004 (69 FR 25367). The revisions were the first substantive changes to the standard timber sale contract provisions in over 30 years. A notice with request for comment on the proposed FS-2400-6 and FS-2400-6T contract revisions was published in the Federal Register on December 19, 2003 (68 FR 70758). The Forest Service made appropriate changes to the contracts in response to the public comments and those are incorporated in the FS-2400-13 and FS-2400-13T contracts as well. Timber Sale Contracts FS-2400-6 and FS-2400-6T are available on the World Wide Web/Internet site at: http://www.fs.fed.us/forestmanagement/infocenter/newcontracts/index.shtml.

Description of Interim Integrated Resource Contracts FS-2400-13 and FS-2400-13T

Integrated Resource Contracts FS-2400-13 and FS-2400-13T were patterned after the FS-2400-6 and FS-2400-6T contracts respectively. However, in order to address new authorities in section 323 of Public Law 108-7, the Consolidated Appropriations Resolution (16 U.S.C. 2104 note), the following conditions and provisions were added to the Integrated Resource Contracts:

1. E/ET2.2 Stewardship Credits. These are credits that the contractor will establish for performing stewardship work. These may be used to pay for included timber value subject to certain limits set in the contract.

2. E/ET.2.2.1 Progress Estimate. This requires the Forest Service to make timely estimates of a contractor's progress on stewardship projects.

3. E/ET.2.2.2 Excess Stewardship Credits. In the event that stewardship credits exceed the value of timber, the Forest Service may either add more timber, or make a cash payment to the contractor for unused stewardship credits.

4. E/ET.2.2.3 Excess Timber Value. In the event that the value of included timber exceeds the value of mandatory stewardship projects, the Forest Service may authorize additional optional projects if any were identified and/or require a cash payment from the contractor for excess timber value.

5. E/ET.2.2.4 Cash Payment for Stewardship Projects. In lieu of providing timber for established stewardship credits, Forest Service may elect to provide the contractor a cash payment.

6. G/GT.3.1.1 Technical Proposal. This replaces B/BT6.311 Plan of Operations in the FS-2400-6 and FS-2400-6T timber sale contracts. Bidders will be required to submit a technical proposal detailing how they will perform the contract work. This provision makes the technical proposal from the accepted bidder a binding part of the contract.

7. G/GT.9 Stewardship Projects. This provision requires the contractor to perform all mandatory stewardship projects listed in the specific conditions section of the contract and addresses procedures for identifying optional projects to include.

8. G/GT.9.1 Refund of Unused Stewardship Credits. This provision provides for making a refund to the contractor for any unused stewardship credits in event that the Contracting Officer requests that the contractor interrupt or delay operations for more than 60 days.

In addition to the changes listed above, the Integrated Resources Contract provisions differ from the timber sale contracts in the following areas:

1. Integrated resource contract provision I/IT2.3-Contract Term Extension, combines timber sale contract provisions B/BT8.23-Contract Term Extension, and B/BT8.231, Conditions for Contract Term Extension.

2. Integrated resource contract provisions J/JT.4-Damages for Failure to Complete Contract or Termination for Breach, expands timber sale contract provision B/BT6.31 to address stewardship projects.

3. The timber sale contracts under provision B/BT6.9 required the purchaser to provide access to records to enable the Forest Service to develop and evaluate appraisal data. The Integrated Resource Contracts do not contain a comparable requirement because the services components of these contracts would skew operating costs rendering the data unreliable for comparative purposes.

Conclusion

Comments will be considered when the Forest Service prepares the final Integrated Resource Contracts, FS-2400-13 and FS-2400-13T. When the Integrated Resource Contracts are finalized, a subsequent notice will be published in the Federal Register.

Dated: September 22, 2004.
Dale N. Bosworth,
Chief.

[FR Doc. 04-22338 Filed 10-4-04; 8:45 am]

BILLING CODE 3410-11-P